DEPARTMENT OF COMMERCE

National Oceanic and Atmospheric Administration

RIN 0648-XA720

Gulf of Mexico Fishery Management Council; Public Meeting; Correction

AGENCY: National Marine Fisheries Service (NMFS), National Oceanic and Atmospheric Administration (NOAA), Commerce.

ACTION: Notice of an addendum to a Council meeting.

SUMMARY: The Gulf of Mexico Fishery Management Council will convene a meeting of the Standing, Special Shrimp and Special Reef Fish Scientific and Statistical Committees (SSC).

DATES: The meeting will convene at 1 p.m. on Tuesday, October 11, 2011 and conclude by 12 p.m. on Thursday, October 13, 2011.

ADDRESSES: The meeting will be held at the Gulf of Mexico Fishery Management Council, 2203 North Lois Avenue, Suite 1100, Tampa, FL 33607.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: This notice was originally published in the Federal Register on September 22, 2011 (76 FR 58783). This notice is being republished in its entirety due to an additional agenda item.

The Standing and Special Shrimp SSC will meet jointly on Tuesday, October 11, 2011 to review benchmark stock assessments on brown shrimp, white shrimp and pink shrimp, and may consider recommending definitions of overfishing limit (OFL) and acceptable biological catch (ABC) based on those assessments. The remainder of the meeting will be a joint meeting of the Standing and Special Reef Fish SSC. The Standing and Special Reef Fish SSC will review and make recommendations on the SEDAR stock assessment schedule. The SSC will then review update assessments of gray triggerfish and vermilion snapper, and will recommend OFL and ABC for those stocks based on the assessments. The SSC will also discuss data needs from the Southeast Fisheries Science Center in order to reevaluate the 2012 red snapper annual catch limit during their next meeting. A representative from the Southeast Regional Office will present the methodology used to calculate the length of the red snapper recreational season, and will review a set of Excel spreadsheets used as decision tools for evaluating commercial and recreational greater amberjack management measures under Reef Fish Amendment 35. SSC members who attended the October 4-6, 2011 National SSC meeting in Williamsburg, VA will give a report on that meeting, and the Chair of the Ecosystem SSC will present a summary of the September 15, 2011 Ecosystem SSC webinar. The SSC will review the tentative schedule of SSC meetings planned for 2012.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: September 27, 2011.
Tracey L. Thompson,
Acting Director, Office of Sustainable Fisheries, National Marine Fisheries Service.

[FR Doc. 2011-25248 Filed 9-29-11; 8:45 am]

BILLING CODE 3510-22-P